DEPARTMENT OF THE TREASURY

United States Mint

Pricing for the 2014 50th Anniversary Kennedy Half-Dollar Gold Proof Coin

AGENCY: United States Mint, Department of the Treasury.

ACTION: Notice.

SUMMARY: The United States Mint is announcing the price of the 2014 50th Anniversary Kennedy Half-Dollar Gold Proof Coin. This coin will be offered for sale based on the following pricing grid:

$1000.00 to $1049.99 | ¾ Troy oz | $1,052.50
$1050.00 to $1099.99 | ¾ Troy oz | 1,090.00
$1100.00 to $1149.99 | ¾ Troy oz | 1,127.50
$1150.00 to $1199.99 | ¾ Troy oz | 1,165.00
$1200.00 to $1249.99 | ¾ Troy oz | 1,202.50
$1250.00 to $1299.99 | ¾ Troy oz | 1,240.00
$1300.00 to $1349.99 | ¾ Troy oz | 1,277.50
$1350.00 to $1399.99 | ¾ Troy oz | 1,315.00
$1400.00 to $1449.99 | ¾ Troy oz | 1,352.50
$1450.00 to $1499.99 | ¾ Troy oz | 1,390.00
$1500.00 to $1549.99 | ¾ Troy oz | 1,427.50
$1550.00 to $1599.99 | ¾ Troy oz | 1,465.00
$1600.00 to $1649.99 | ¾ Troy oz | 1,502.50
$1650.00 to $1699.99 | ¾ Troy oz | 1,540.00

Pricing can vary weekly dependent upon the London Fix weekly average gold price. Pricing is evaluated every Wednesday and is modified if necessary.

FOR FURTHER INFORMATION CONTACT: J. Marc Landry, Acting Associate Director for Sales and Marketing; United States Mint; 801 9th Street NW., Washington, DC 20220; or call 202-354-7500.

Authority: 31 U.S.C. 5111, 5112, and 9701

Dated: June 25, 2014.
Beverly Ortega Babers,
Chief Administrative Officer, United States Mint.

[FR Doc. 2014-15407 Filed 7-2-14; 8:45 am]

BILLING CODE P